DEPARTMENT OF THE INTERIOR

National Park Service

Fire Management Plans, Environmental Impact Statements, Guadalupe Mountains National Park and Big Bend National Park, TX, and Carlsbad Caverns National Park, NM

AGENCY: National Park Service, Department of the Interior.

ACTION: Notices of Intent to prepare Environmental Assessments for the Fire Management Plans at Guadalupe Mountains National Park, Big Bend National Park, and Carlsbad Caverns National Park.

SUMMARY: In Notices of Intent published October 10, 2002 (67 FR 63151) November 15, 2002 (67 FR 69239), and June 11, 2003 (68 FR 35002), the National Park Service (NPS) announced its intent to prepare EIS's for the Fire Management Plans at Guadalupe Mountains National Park, Carlsbad Caverns National Park and Big Bend National Park, respectively. The NPS has since determined that environmental assessments (EA), rather than EIS's, are the appropriate environmental documentation to proceed with for the Fire Management Plans at those parks.

SUPPLEMENTARY INFORMATION: The NPS had begun working on EIS's for the Fire Management Plans for each park following the publication of the Notices of Intent. Internal discussions and meetings, and comments from public scoping sessions helped frame the alternatives and issues related to each Fire Management Plan. In the development of each EIS, the effects of the alternatives have been examined in detail. Based on these findings and the input received during public scoping, the NPS has decided to proceed with an EA as the National Environmental Policy Act documentation for the update and review of these parks' Fire Management Plans.

At an undetermined date following the publication of this Notice of Intent, the parks will release their Fire Management Plan EA's for 30-day public comment.

FOR FURTHER INFORMATION CONTACT: John Lujan, Superintendent, Guadalupe Mountains National Park, HC 60 Box 400, Salt Flat, TX 79847-9400, (915)828-3251 x104, GUMO_Superintendent@nps.gov., John King, Superintendent, Big Bend National Park, P.O. Box 129, Big Bend National Park, TX 79834-0129, (432)477-1101, BIBE_Superintendent@nps.gov, John Benjamin, Acting Superintendent, Carlsbad Caverns National Park, 3225 National Parks Highway Carlsbad, NM 88220, (505)785-3027 CAVE_Superintendent@nps.gov.

Dated: October 13, 2004.
Michael D. Snyder,
Deputy Director, Intermountain Region, National Park Service.

[FR Doc. 04-27607 Filed 12-16-04; 8:45 am]

BILLING CODE 4312-C4-P